DEPARTMENT OF HEALTH AND HUMAN SERVICES

Centers for Disease Control and Prevention

Government-Owned Inventions: Availability for Licensing and Cooperative Research and Development Agreements (CRADAs)

AGENCY: Centers for Disease Control and Prevention, Technology Transfer Office, Department of Health and Human Services.

ACTION: Notice.

SUMMARY: The invention named in this notice is owned by agencies of the United States Government and is available for licensing in the United States (U.S.) in accordance with 35 U.S.C. 207, and is available for cooperative research and development agreements (CRADAs) in accordance with 15 U.S.C. 3710a, to achieve expeditious commercialization of results of federally funded research and development. A U.S. non-provisional patent application and a PCT application have been filed. National stage foreign patent applications claiming priority to the PCT application are expected to be filed within the appropriate deadlines to extend market coverage for U.S. companies and may also be available for licensing.

ADDRESSES: Licensing and CRADA information, and information related to the technology listed below, may be obtained by writing to Suzanne Seavello Shope, J.D., Technology Licensing and Marketing Scientist, Technology Transfer Office, Centers for Disease Control and Prevention (CDC), Mailstop K-79, 4770 Buford Highway, Atlanta, GA 30341, telephone (770) 488-8613; facsimile (770) 488-8615; or e-mail sshope@cdc.gov. A signed Confidential Disclosure Agreement (available under Forms at http://www.cdc.gov/tto) will be required to receive copies of unpublished patent applications and other information.

Diagnostics

Development of Real-Time PCR Assay for Detection of Pneumococcal DNA and Diagnosis of Pneumococcal Disease

The ability to diagnose pneumococcal pneumonia is limited by the lack of a sensitive, specific, and accurate laboratory assay. Using the PsaA (pneumococcal protein A) protein gene, CDC researchers have designed unique primers and probes and developed a real-time PCR assay for detection of pneumococcal DNA in serum and other sterile site body fluids for the diagnosis of pneumococcal disease. The PCR assay provides a tool for accurate diagnosis by clinicians, and for determination of the effectiveness (efficacy) of newly licensed pneumococcal polysaccharide-conjugate vaccines or future common protein pneumococcal vaccines.

Inventors: Maria da Gloria Carvalho, Jacquelyn S. Sampson, Edwin W. Ades, George Carlone and Karen McCaustland, CDC Ref. #: I-001-05.

Dated: September 9, 2005.
James D. Seligman,
Associate Director for Program Services, Centers for Disease Control and Prevention.

[FR Doc. 05-18791 Filed 9-20-05; 8:45 am]

BILLING CODE 4163-18-P